DEPARTMENT OF STATE

[Public Notice 4341]

Bureau of Educational and Cultural Affairs Request for Grant Proposals: English as a Foreign Language (EFL) Institutes for Teachers and Administrators From Jordan and Morocco

SUMMARY: The Fulbright Teacher Exchange Branch, Office of Global Educational Programs of the Bureau of Educational and Cultural Affairs (ECA) announces an open competition for an assistance award program to support the development of two single-country teacher-training institutes. Accredited, post-secondary educational institutions meeting the provisions described in Internal Revenue Code section 26 U.S.C. 501(c)(3) may submit proposals to develop two English-as-a-Foreign Language (EFL) Institutes for teachers and administrators from Jordan and Morocco. Each Institute will provide an intensive five-week academic and one-week site visit program for 8-10 qualified English teachers and administrators from one of the respective countries.

Program Information

Overview

The Bureau asks for detailed proposals from U.S. institutions of higher education, which have expertise in the field of EFL. Proposals should demonstrate deep understanding of the local educational systems in Jordan and Morocco as well as the issues confronting English language education. Special expertise in handling cross-cultural programs is highly desired. Proposals should also outline practical and feasible follow-on activities that build on the achievements of the Institute while promoting the continued exchanges of ideas between the participants and the U.S. institution receiving the grant.

Project Objectives

The proposal should reflect three overall goals: First, to produce a highly focused seminar setting or “Institute” that updates participants in best practices in EFL at the primary through secondary levels; second, to provide participants with train-the-trainer skills that will enable them to conduct workshops on institute topics in their home countries in the future; and third, to provide participants with opportunities to interact with Americans, thereby allowing them to gain awareness and understanding of U.S. culture and society.

Guidelines

Project Planning and Implementation

Grant Inception and Duration

Pending availability of FY 2003 funds, the Institute should begin—and in-country follow-on workshops be conducted—as soon as local and international conditions allow.

Planning

With the concurrence of the Jordanian and Moroccan Ministries of Education, participants will be recruited and selected in-country by the Public Affairs Section of the U.S. Embassy, the Department of State's Regional English Language Officers (RELOs), and the Fulbright Commissions. U.S. embassy officials will work with the Ministries to facilitate follow-on training activities.

After the participants have been selected but prior to their arrival in the U.S., the grantee institution will be responsible for conducting an initial planning visit to both countries to consult with representatives from the U.S. Embassy, Fulbright Commissions, RELOs and local educators. During these meetings and in coordination with the local Fulbright Commission, the grantee institution will conduct a three-day pre-departure orientation workshop for the participants. For information on contacting the Fulbright Commissions please refer to the POGI. This workshop should provide information about the Institute, its goals, and expectations of participants. It should also offer a framework for integrating the Institute and its objectives into participants' previous training, and promote team-building strategies. At the workshops, organizers should seek input about the needs of local teachers, review comparative teaching practices, and address issues about participants' stay in the U.S.

In planning for the Institute, the U.S. grantee organization will identify and select specific training and instructional materials (up to a value of approximately $800-$1,000 per set) in consultation with the State Department, RELOs and local experts. Costs for the purchase of the materials and for their shipment will be paid through a separate contract. The grantee organization should not budget for these sets of materials. The materials will support the five-week academic program of the Institute as well as the in-country follow-on workshops. Numerous sets of these materials will be sent to both Jordan and Morocco and distributed to local teachers and schools participating in the follow-on workshops.

U.S. Based Training

Following the pre-departure orientation, participants will spend approximately six weeks in the U.S. immersed in the EFL Institute organized by the U.S. grantee. The Institutes should meet the needs of the Jordanian and Moroccan participants through activities designed by U.S. education specialists with appropriate expertise in EFL instruction, curriculum development and training. The Institutes should have two components: A five-week intensive academic program and a one-week cultural and educational program in Washington, DC. The five-week academic program should address innovative EFL teaching methodologies and approaches and their implementation in Jordan and Morocco. Significant time should also be allotted for the inclusion of related professional activities outside the classroom which will introduce participants to U.S. education specialists, such as visits to schools, consultations with U.S. teachers, in-school mentoring, and attendance at professional meetings. At a minimum, a one-week experiential component should be included in the five-week academic program in which participants observe best practices in EFL instruction and training in a U.S. school. Among the topics to be addressed during the Institutes are: Computer literacy skills for EFL instruction, critical thinking, communication, conflict resolution, analytical and evaluation skills, and student development and motivation.

Few participants will have visited the United States previously. In view of this, an initial orientation to the host institution, its community, and an introduction to U.S. society and its system of education should be an integral part of the Institute shortly after arrival on the U.S. campus. The five-week study program should also include cultural activities that facilitate interaction among the participants, American students, faculty, and administrators and the local community to promote mutual understanding between the people of the United States and the people of Jordan and Morocco countries.

The next component of the Institute is the one-week site visit to Washington, DC. The site visit should complement and reinforce the five-week academic program. Visits will include a meeting at the Bureau of Educational and Cultural Affairs and other meetings as advised by the Fulbright Teacher Exchange Branch.

Administration and management of the academic program and the week in Washington, DC will be the responsibility of the U.S. grantee organization. The U.S. institution is responsible for arrangements for domestic and international travel, lodging, food, and allowances for participants while at the host institution and in Washington.

In-Country Workshops

The final stage of this program will consist of a series of follow-on workshops in each country for a total of an additional 80-100 in-country participants. However, the U.S. grantee institution will be responsible for only facilitating the first of these workshops, which will bring together the U.S. trained participants with 12-15 of their fellow countrymen in each country. Assistance will be provided from the RELOs, and when possible, with a resident English Language Fellow—an experienced U.S. teacher trainer with expertise in TEFL/TESL supported by the Department of State to assist with the improvement of English teaching capacity in host country educational institutions. Institute participants will coordinate the additional workshops with assistance from the RELOs and Fellow. The Fulbright Commissions will provide administrative support and work with the Ministry of Education to encourage continued communication among all participants. At these workshops, Institute participants will showcase the teaching strategies they developed in the U.S., and practice the teacher training skills acquired during the program.

Budget Guidelines

Applicants must submit a comprehensive budget for the entire program. There must be a summary budget as well as breakdowns reflecting both administrative and program budgets. Applicants may submit separate sub-budgets for each program component, phase, location, or activity to provide clarification. The grant cost to the Bureau for the two Institutes and follow-on activity may not exceed $430,000. Subject to availability of funds, one grant will be awarded to conduct the EFL Institutes and follow-on for the two countries.

Bureau grant guidelines require that organizations with less than four years experience in conducting international exchanges be limited to $60,000. Therefore, organizations with less than four years of experience in conducting international exchanges are ineligible to apply under this competition.

Allowable costs for the program include the following:

(1) Instructional costs, including salaries and benefits of grantee organization, honoraria for outside speakers, educational materials;

(2) Travel, lodging, meals, and incidentals for participants;

(3) Expenses associated with cultural activities planned for the two groups of participants (for example, tickets, transportation);

(4) Administrative costs as necessary.

Proposals should maximize cost-sharing through private sector support as well as institutional direct funding contributions.

Please refer to the POGI for complete budget guidelines and formatting instructions.

Announcement Title and Number: All correspondence with the Bureau concerning this RFGP should reference the above title and number ECA/A/S/X-03-04.

FOR FURTHER INFORMATION CONTACT: The Fulbright Teacher Exchange Branch, Office of Global Educational Programs, ECA/A/S/X, Room 349, U.S. Department of State, 301 4th Street, SW., Washington, DC 20547, Telephone: (202) 260-5322, fax: (202) 401-1433 or e-mail: fchery@pd.state.gov to request a Solicitation Package. The Solicitation Package contains detailed award criteria, required application forms, specific budget instructions, and standard guidelines for proposal preparation. Please specify Bureau Program Officer Farah Chery on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's website at http://exchanges.state.gov/education/rfgps. Please read all information before downloading.

Deadline for Proposals: All proposal copies must be received at the Bureau of Educational and Cultural Affairs by 5 p.m. Washington, DC time on Friday, May 30, 2003. Faxed documents will not be accepted at any time. Documents postmarked the due date but received on a later date will not be accepted. Each applicant must ensure that the proposals are received by the above deadline.

Applicants must follow all instructions in the Solicitation Package. The original and seven (7) copies of the application should be sent to: U.S. Department of State, SA-44, Bureau of Educational and Cultural Affairs, Ref.: ECA/A/S/X-03-04, Program Management, ECA/EX/PM, Room 534, 301 4th Street, SW., Washington, DC 20547.

Applicants must also submit the “Executive Summary” and “Proposal Narrative” sections of the proposal on a 3.5” diskette, formatted for DOS. These documents must be provided in ASCII text (DOS) format with a maximum line length of 65 characters.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR part 6Z, including the oversight of Responsible Officers and Alternate Responsible Officers, screening and selection of program participants, provision of pre-arrival information and orientation to participants, monitoring of participants, proper maintenance and security of forms, record-keeping, reporting and other requirements.

The grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of program idea and planning: Proposals should exhibit originality, substance, precision, and relevance to the Bureau's mission. Proposals should demonstrate substantive expertise in EFL education, curriculum development and teacher training. Proposals should also illustrate effective use of community and regional resources to enhance the cultural and educational experiences of participants. Teaching objectives should be reasonable, feasible, and flexible. In addition, proposal should provide a detailed calendar and relevant work plan and demonstrate how the institution will meet the program's objectives.

2. Multiplier effect/impact: Proposed program should contribute to long-term, mutual understanding and sharing of information about the culture of Jordan and Morocco among Americans, as well as to the understanding of and knowledge of the U.S. among the Jordanian and Moroccan participants.

3. Support of Diversity: Proposals should demonstrate the recipient's commitment to promoting the awareness and understanding of diversity. Achievable and relevant features should be cited in both program administration (Institute staff and host community, program venue and program evaluation) and program content (orientation, program meetings, resource materials and follow-up activities). The proposal should demonstrate an understanding of the diversity needs in both countries and strategies for addressing these needs in terms of the project goals.

4. Institutional Capacity: Proposed personnel and institutional resources should be adequate and appropriate to achieve a substantive academic program and effective cross-cultural communication with Jordanian or Moroccan participants. Proposal should show evidence of strong on-site administrative capabilities with specific discussion of how logistical arrangements will be undertaken. Proposals that demonstrate institutional experience in Jordan and Morocco, knowledge of the educational systems in both countries, as well as an institutional record of successful implementation of exchange programs will receive preference.

5. Project Evaluation: Proposals should include a plan to evaluate the Institute's success, both as the activities unfold and at the end of the program. A draft survey questionnaire or other technique plus description of a methodology to use to link outcomes to original project objectives are recommended. Successful applicants will be expected to submit quarterly or intermediate reports after each project component is concluded, whichever is less frequent.

6. Follow-on Activities: Proposals should provide a detailed plan outlining the follow-on workshop that the U.S. grantee organization is responsible for conducting in each country. Workshops should enable Institute participants to provide training to local teachers on the skills and teaching strategies acquired in the five-week program. As with the Institute, the workshop should integrate the collection of pre-selected instructional materials into the training and draft a syllabus for the training of local teachers during follow-on activities. In addition to these workshops, proposals should also include a plan for other follow-on activity (without Bureau support) ensuring that Bureau supported programs are not isolated events.

7. Cost-effectiveness: The overhead and administrative components of the proposal, including salaries and honoraria, should be kept as low as possible. All other items should be necessary and appropriate.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.”

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 17, 2003.
C. Miller Crouch,
Principal Deputy Assistant Secretary, Bureau of Educational and Cultural Affairs, Department of State.

[FR Doc. 03-10176 Filed 4-23-03; 8:45 am]

BILLING CODE 4710-05-U